DEPARTMENT OF TRANSPORTATION

Federal Aviation Administration

Proposed Advisory Circular 25-XX, Subpart I, Continued Airworthiness and Safety Improvements

AGENCY: Federal Aviation Administration, DOT.

ACTION: Notice of issuance of proposed advisory circular and request for comments.

SUMMARY: The Federal Aviation Administration invites public comment on proposed Advisory Circular (AC) 25-XX, “Subpart I, Continued Airworthiness and Safety Improvements.” This proposed AC provides generic guidance, which is applicable to the safety initiatives in the proposed Subpart I (i.e., Enhanced Airworthiness Program for Airplane Systems, Reduction of Fuel Tank Flammability in Transport Category Airplanes, Aging Airplane Safety, and Widespread Fatigue Damage), on the roles and responsibilities of type certificate and supplemental type certificate holders, manufacturers, owners, and operators. Like all ACs, it is not regulatory but provides guidance for applicants in demonstrating compliance with the objective safety standards set forth in part 25. This notice is necessary to give all interested persons an opportunity to present their views on the proposed AC.

DATES: Comments must be received on or before December 5, 2005.

ADDRESSES: You should send your comments to the Federal Aviation Administration, Attention: Mike Zielinski, Manager, AFS Liaison Program, ANM-105, Transport Airplane Directorate, Aircraft Certification Service, 1601 Lind Avenue SW., Renton, WA 98055-4056. You may also fax your comments to 425-227-1100, or you may send your comments electronically to: mike.zielinski@faa.gov. You may review all comments received at the above address between 7:30 a.m. and 4 p.m. weekdays, except Federal holidays.

FOR FURTHER INFORMATION CONTACT: Mike Zielinski at the above address, telephone number 425-227-2279; fax number 425-227-1100.

SUPPLEMENTARY INFORMATION:

How Do I Obtain a Copy of the Proposed Advisory Circular?

You may obtain an electronic copy of the proposed advisory circular at the following Internet address: http://www.airweb.faa.gov/rgl. If you do not have access to the Internet, you may request a copy by contacting Mike Zielinski at the address or phone number listed earlier in this announcement.

How Do I Submit Comments on the Proposed Advisory Circular?

You are invited to comment on the proposed AC by submitting written comments, data, or views. You must identify the AC by title and submit your comments in duplicate to the address specified above. We will consider all comments received on or before the closing date for comments before issuing the final AC.

Discussion

By separate notices published in different issues of the Federal Register, the FAA proposes to amend several sections of 14 CFR part 25, and proposes to add a new Subpart I to update the regulations. The proposed AC 25-XX would provide generic guidance for demonstrating compliance with the proposed Subpart I safety initiatives. The methods and procedures described in this proposed AC are similar to those used for certification projects. This proposed AC represents one acceptable means, but not the only means, of compliance with certain aspects of the proposed Subpart I safety initiatives.

Issuance of the proposed AC is contingent on issuance of the proposed safety initiatives (i.e., Enhanced Airworthiness Program for Airplane Systems, Reduction of Fuel Tank Flammability in Transport Category Airplanes, Aging Airplane Safety, and Widespread Fatigue Damage).

Issued in Washington DC, on September 22, 2005.
John J. Hickey,
Director, Aircraft Certification Service.

[FR Doc. 05-19418 Filed 10-5-05; 8:45 am]

BILLING CODE 4910-13-P